DEPARTMENT OF DEFENSE

Office of the Secretary

[Docket ID DoD-2012-OS-0029]

Privacy Act of 1974; System of Records

AGENCY: Defense Intelligence Agency, DoD.

ACTION: Notice to Alter a System of Records.

SUMMARY: The Defense Intelligence Agency is proposing to alter a system to its existing inventory of records systems subject to the Privacy Act of 1974 (5 U.S.C. 552a), as amended.

DATES: This proposed action will be effective on June 4, 2012 unless comments are received that would result in contrary determination.

ADDRESSES: You may submit comments, identified by docket number and title, by any of the following methods:

* Federal Rulemaking Portal: http://www.regulations.gov. Follow the instructions for submitting comments.

* Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery, Defense Intelligence Agency, DAN 1-C, 600 McDill Blvd. Washington, DC 20340-0001, or by phone at (202) 231-1193.

SUPPLEMENTARY INFORMATION: The Defense Intelligence Agency system of records notices subject to the Privacy Act of 1974, (5 U.S.C. 552a), as amended, have been published in the Federal Register and are available from the address in FOR FURTHER INFORMATION CONTACT.

The proposed system report, as required by 5 U.S.C. 552a(r) of the Privacy Act of 1974, as amended, was submitted on March 23, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals, dated February 8, 1996 (February 20, 1996, 61 FR 6427).”

Dated: April 18, 2012.
Patricia Toppings,
OSD Federal Register Liaison Officer, Department of Defense.

LDIA 0010

System Name:

Requests for Freedom of Information Act, Privacy Act, and Mandatory Declassification Review Information (July 19, 2006, 71 FR 41003).

Changes:

* * * * *

System name:

Delete entry and replace with “Information Requests-Freedom of Information Act (FOIA) and Privacy Act.”

System location:

Delete entry and replace with “Defense Intelligence Agency, 200 MacDill Blvd., Washington, DC 20340-5100.”

Categories of individuals covered by the system:

Delete entry and replace with “All persons who have requested documents under the provisions of the Freedom of Information Act (FOIA) and Privacy Act; individuals whose requests and/or records have been processed under FOIA and Privacy Act along with attorneys representing individuals making such requests.”

Categories of records in the system:

Delete entry and replace with “Name, address and telephone number of the person making the request and/or their representatives, and case number. Records include forms, documents and correspondence providing information created or compiled in response to FOIA and Privacy Act requests, and include responses, all related memorandums, correspondence, notes, and supported documentation along with copies of the requested records.”

Authority for maintenance of the system:

Delete entry and replace with “5 U.S.C. 552, Freedom of Information Act (FOIA); 5 U.S.C. 552a, The Privacy Act of 1974, as amended; Department of Defense (DoD) Directive 5400.07-R, DoD Freedom of Information Act (FOIA) Program; DoD 5400.11-R, DoD Privacy Program; Defense Intelligence Agency Instruction (DIAI) 5400.002, DIA FOIA Program; DIAI 5400-11R, DIA Privacy Program.”

Purpose(s):

Delete entry and replace with “The system will manage records generated as a result of FOIA and Privacy Act requests. Information is used to meet regulatory requirements of the FOIA and Privacy Acts and to provide documentation in response to requests from the public sector for information, which is originated by or contained in the files of the Defense Intelligence Agency. To provide information for compiling reports required by public disclosure statutes and to assist the Department of Justice in preparation of the Agency's defense in any law suit arising under these statutes.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

To the Department of Justice for litigation purposes.

The DoD `Blanket Routine Uses' set forth at the beginning of the DIA's compilation of systems of records notices apply to this system.”

* * * * *

Storage:

Delete entry and replace with “Paper and electronic storage media.”

Retrievability:

Delete entry and replace with “By last name and case number.”

Safeguards:

Delete entry and replace with “Records are stored in office buildings protected by guards, controlled screenings, use of visitor registers, electronic access, and/or locks. Access to records is limited to individuals who are properly screened, and cleared on a need-to-know basis in the performance of their duties. Passwords and user IDs control access to the system data, and procedures are in place to deter and detect browsing and unauthorized access. Physical and electronic access are limited to persons responsible for servicing and authorized to use the system.”

Retention and disposal:

Delete entry and replace with “Privacy Act Request Files destroy 2 years after date of reply. Requests not appealed, destroy 5 years after date of reply. Requests appealed, destroy as authorized under Privacy Act Amendment Case Files. Files maintained for control purposes in responding to requests, including registers and similar records listing date, nature, and purpose of request and name and address of requester; destroy 6 years after date of last entry. Other files destroy 6 years after final action by the Agency or after final adjudication by courts, whichever is later.

Electronic files are deleted from the data base, paper files are destroyed by shredding or burning.”

System manager(s) and address:

Delete entry and replace with “Chief, Freedom of Information and Declassification Services Branch, Defense Intelligence Agency 200 McDill Blvd., Washington, DC 20340-5100.”

Notification procedure:

Delete entry and replace with “Individuals seeking to determine whether information about themselves is contained in this system of records should address written inquiries to the DIA Freedom of Information Office (DAN-1A), Defense Intelligence Agency, 200 MacDill Blvd., Washington, DC 20340-5100.

Request should contain the individual's full name, current address, and telephone number.”

Record access procedures:

Delete entry and replace with “Individuals seeking access to information about themselves, contained in this system of records, should address written inquiries to the DIA Freedom of Information Office (DAN-1A), 200 MacDill Blvd., Washington, DC 20340-5100.

Request should contain the individual's full name, current address, and telephone number.”

Contesting record procedures:

Delete entry and replace with “DIA's rules for accessing records, for contesting contents and appealing initial agency determinations are published in DIA Instruction 5400.001 “Defense Intelligence Agency Privacy Program”; 32 CFR part 319—Defense Intelligence Agency Privacy Program; or may be obtained from the system manager.”

Record source categories:

Delete entry and replace with “Individual requesters, attorneys representing individuals making such requests, the Defense Intelligence Agency, and other federal government officials.”

Exemptions claimed for the system:

Delete entry and replace with “During the course of FOIA and or Privacy Act action, exempt materials from other systems of records may in turn become part of the case records in this system. To the extent that copies of exempt records from those `other' systems of records become part of this correspondence case record, the Defense Intelligence Agency hereby claims the same exemptions for the records from those `other' systems when they become part of this system, as claimed for the original primary systems of records that they are a part.

Records are only exempt from pertinent provisions of 5 U.S.C. 552a to the extent such provisions have been identified and an exemption claimed for the original record and the purposes underlying the exemption for the original record still pertain to the record which is now contained in this system of records. In general, the exemptions were claimed in order to protect properly classified information relating to national defense and foreign policy, to avoid interference during the conduct of criminal, civil, or administrative actions or investigations, to ensure protective services provided the President and others are not compromised, to protect the identity of confidential sources incident to Federal employment, military service, contract, and security clearance determinations, to preserve the confidentiality and integrity of Federal testing materials, and to safeguard evaluation materials used for military promotions when furnished by a confidential source. The exemption rule for the original records will identify the specific reasons why the records are exempt from specific provisions of 5 U.S.C. 552a.”

[FR Doc. 2012-10654 Filed 5-2-12; 8:45 am]

BILLING CODE 5001-06-P